DEPARTMENT OF COMMERCE

National Oceanic and Atmospheric Administration

RIN 0648-XU002

Meeting of the Columbia Basin Partnership Task Force of the Marine Fisheries Advisory Committee

AGENCY: National Marine Fisheries Service (NMFS), National Oceanic and Atmospheric Administration (NOAA), Department of Commerce.

ACTION: Notice of open public meeting.

SUMMARY: This notice sets forth the proposed schedule and agenda of a forthcoming meeting of the Marine Fisheries Advisory Committee's (MAFAC's) Columbia Basin Partnership Task Force (CBP Task Force). The CBP Task Force will discuss the issues outlined in the SUPPLEMENTARY INFORMATION below.

DATES: The meeting will be held on September 25, 2019 from 9 a.m. to 5 p.m. PT and September 26, 2019 from 9 a.m. to 4 p.m. PT.

ADDRESSES: The meeting will be held at the Port of Portland Headquarters, 8th floor, Chinook Room, 7200 NE Airport Way, Portland, OR 97218; 503-415-6000.

FOR FURTHER INFORMATION CONTACT: Katherine Cheney; NFMS West Coast Region; 503-231-6730; email: Katherine.Cheney@noaa.gov.

SUPPLEMENTARY INFORMATION: Notice is hereby given of a meeting of MAFAC's CBP Task Force. The MAFAC was established by the Secretary of Commerce (Secretary) and, since 1971, advises the Secretary on all living marine resource matters that are the responsibility of the Department of Commerce. The MAFAC charter and meeting information are located online at https://www.fisheries.noaa.gov/topic/partners#marine-fisheries-advisory-committee-. The CBP Task Force reports to MAFAC and is being convened to develop recommendations for long-term goals to meet Columbia Basin salmon recovery, conservation needs, and harvest opportunities, in the context of habitat capacity and other factors that affect salmon mortality. More information is available at the CBP Task Force web page: http://www.westcoast.fisheries.noaa.gov/columbia_river/index.html.

Matters To Be Considered

The meeting time and agenda are subject to change. Meeting topics include updates to the biological strategies for achieving goals and exploring analytical tools to assess social, cultural, economic, and ecological considerations that affect salmon and steelhead conservation and recovery.

Special Accommodations

The meeting is physically accessible to people with disabilities. Requests for sign language interpretation or other auxiliary aids should be directed to Katherine Cheney, 503-231-6730, by September 18, 2019.

Dated: September 4, 2019.
Jennifer L. Lukens,
Federal Program Officer, Marine Fisheries Advisory Committee, National Marine Fisheries Service.

[FR Doc. 2019-19472 Filed 9-9-19; 8:45 am]

BILLING CODE 3510-22-P